NUCLEAR REGULATORY COMMISSION

[Docket Nos. 50-10, 50-237, and 50-249]

Exelon Generation Company, LLC, Dresden Nuclear Power Station, Units 1, 2, and 3; Exemption

1.0 Background

The Exelon Generation Company, LLC, (Exelon, or the licensee) is the holder of Facility Operating License Nos. DPR-2, DPR-19, and DPR-25, which authorizes operation of the Dresden Nuclear Power Station (DNPS), Units 1, 2, and 3. The license provides, among other things, that the facility is subject to all rules, regulations, and orders of the U.S. Nuclear Regulatory Commission (NRC, the Commission) now or hereafter in effect.

The facility consists of Unit 1, which is permanently defueled, and Units 2 and 3, which are both operating boiling water reactors. The facility is located in Grundy County, Illinois.

2.0 Request/Action

Title 10 of the Code of Federal Regulations (10 CFR), part 50, appendix E, section IV.F.2.c. requires that offsite emergency plans at each site be exercised every 2 years with full or partial participation by each offsite response organization (ORO) having a role under the plan. Normally during such biennial full-participation exercises, the NRC evaluates onsite, and the Federal Emergency Management Agency (FEMA) evaluates offsite, emergency preparedness activities.

The licensee conducted a biennial exercise on May 26, 2001, but participation by the OROs was curtailed due to the need to respond to emergency conditions caused by flooding within the State. The licensee rescheduled the ORO participation for September 18, 2001, but the national emergency preempted the conduct of that exercise. By letter dated December 18, 2001, the licensee requested an exemption to postpone the remaining portions of ORO participation into an exercise to be conducted in 2002. The last full participation exercise for DNPS was conducted on May 26, 1999. The period between exercises could be as long as 42 months if the exercise were conducted in December of 2002. This is outside the period of time normally allowed for the scheduling of biennial exercises. However, it is recognized that rescheduling the exercise is a challenge to the licensee. This being the case, a schedular exemption for conducting the remaining portions of the offsite exercise before the end of the third quarter of 2002 is appropriate. This could result in a maximum interval between FEMA-evaluated exercises of about 39 months if the licensee conducted the exercise in September of 2002. While this interval is longer than the 36 month period allowed by regulations, it is consistent with other exemptions recently granted due to the national emergency.

Exelon is among several licensees requesting exercise exemptions in the wake of the national emergency of September 11, 2001. It is recognized that it was not appropriate to conduct an exercise during the period of disruption and heightened security after the national emergency. The State of Illinois was initially involved with the recovery response to the national emergency and continues to respond to heightened security needs. Considering the extraordinary circumstances, a schedular exemption is acceptable. However, in this period of heightened security concerns regarding nuclear plant vulnerability, it is prudent to conduct the exercise as soon as practicable to maintain and demonstrate readiness. The following evaluation addresses the technical issues necessary to grant a schedular exemption from the requirements of 10 CFR Part 50, Appendix E, section IV.F.2.c, to conduct an evaluated biennial exercise.

3.0 Discussion

Pursuant to 10 CFR 50.12, the Commission may, upon application by any interested person or upon its own initiative, grant exemptions from the requirements of 10 CFR part 50 when (1) the exemptions are authorized by law, will not present an undue risk to public health or safety, and are consistent with the common defense and security; and (2) when special circumstances are present. Under 10 CFR 50.12(a)(2)(v), special circumstances are present whenever the exemption would provide only temporary relief from the applicable regulation and the licensee or applicant has made good faith efforts to comply with the regulation.

The exemption only provides temporary relief from the applicable regulation, in that the licensee has committed to conduct the exercise during the next calendar year (2002) and has not requested any permanent changes in future exercise scheduling. The staff has also determined that conduct of the exercise as early as practicable in 2002 is prudent, but the exemption is not predicated on the licensee following this recommendation.

The licensee has stated that due to the number of Exelon nuclear facilities in the area around DNPS, most of the OROs have participated in other biennial exercises. There are three counties responsible for offsite emergency preparedness in support of DNPS. Will County participated in the Braidwood Exercise of March 1, 2000, and Grundy County participated in the LaSalle exercise of October 4, 2000. Kendall County, which is located in the five-to-ten mile portion of the DNPS emergency planning zone, has not participated in an exercise during the last two years. The Illinois Department of Nuclear Safety (IDNS) participated in the May 26, 2001, DNPS exercise (and four others during the last two years) and the Illinois Emergency Management Agency (IEMA) participated with various Exelon sites as follows: Braidwood, March 1, 2000; LaSalle, October 4, 2000; Clinton, August 28, 2001; and Byron, November 28, 2001.

The licensee stated that all past exercises were conducted using the Exelon standard evaluation techniques. Weaknesses and deficiencies were identified and entered into the corrective action program and are tracked to completion. Future exercises are to be conducted in the same manner. The licensee stated that an appropriate level of emergency preparedness is being maintained as evidenced by ORO participation.

For this exemption request, the special circumstances described in Section 50.12(a)(2) of 10 CFR 50 are present:

50.12(a)(2)(v) The exemption would provide only temporary relief from the applicable regulation and the licensee or applicant has made a good faith effort to comply with the regulation.

The national emergency of September 11, 2001, and the subsequent recovery and security responses prevented the OROs from participating in the re-scheduled biennial exercise. The licensee made a good faith effort to comply with regulations through the conduct of an exercise on May 26, 2001, and the rescheduling of the ORO participation aspects of that exercise for September 18, 2001. The circumstances dictating the request for exemption are beyond the licensee's control. Additionally, the licensee's exercise program includes multiple opportunities for the participation of OROs and is a compensating measure contributing to justification of the exemption. The exemption only provides temporary relief from the applicable regulation, in that the licensee has committed to conduct the remaining portions of the offsite exercise during the next calendar year (2002) and has not requested any permanent changes in future exercise scheduling. The staff has determined that conduct of the exercise as early as practicable in 2002, but no later than the end of the third quarter, is prudent even though the licensee is expected to conduct another full or partial participation exercise in 2003.

4.0 Conclusion

The staff finds that granting the licensee's request for a one-time schedular exemption from the requirement of section IV.F.2.c. of appendix E to 10 CFR part 50 to conduct a full participation emergency preparedness exercise in 2001 will not present an undue risk to the public health and safety, is consistent with the common defense and security, and that special circumstances are present as set forth in 10 CFR 50.12(a)(2). This conclusion is based on the expectation that the licensee will conduct the remaining offsite portions of the postponed exercise before the end of the third quarter 2002.

Pursuant to 10 CFR 51.32, the Commission has determined that the granting of this exemption will not have a significant effect on the quality of the human environment (66 FR 66948).

This exemption is effective upon issuance and expires on September 30, 2002.

Dated at Rockville, Maryland, this 28th day of December, 2001.
For the Nuclear Regulatory Commission.
Herbert N. Berkow,
Acting Director, Division of Licensing Project Management, Office of Nuclear Reactor Regulation.

[FR Doc. 02-229 Filed 1-3-02; 8:45 am]

BILLING CODE 7590-01-P